DEPARTMENT OF STATE

[Public Notice: 12834; No. 2025-07]

Designation Pursuant to the Foreign Missions Act

Pursuant to the authority vested in the Secretary of State under the Foreign Missions Act, 22 U.S.C. 4301 et seq. (“the Act”), and delegated pursuant to Department of State Delegation of Authority No. 214 of September 20, 1994, and further to Foreign Missions Act Designation No. 2025-05, dated September 16, 2025, I hereby determine it is reasonably necessary to achieve one or more of the purposes set forth in section 204(b) of the Act (22 U.S.C. 4304(b)) to require the Permanent Mission of the Islamic Republic of Iran to the United Nations and its members, including Iranian government officials traveling for UN purposes, and their dependents, to obtain approval from the Department of State prior to: (i) obtaining or otherwise retaining membership at any wholesale club store in the United States, to include but not limited to Costco, Sam's Club, or BJ's Wholesale Club, and (ii) acquiring items from such wholesale club stores through any means. Further, the Permanent Mission and its members must comply with any other requirements as may be established by the Director or Deputy Director of the Office of Foreign Missions with respect to wholesale club store membership and acquisition of items from such stores.

In addition, further to Foreign Missions Act Designation No. 2025-06, dated September 16, 2025, I hereby determine it is reasonably necessary to achieve one or more of the purposes set forth in section 204(b) of the Act (22 U.S.C. 4304(b)) to require the Permanent Mission of the Islamic Republic of Iran to the United Nations and its members, including Iranian government officials traveling for UN purposes, and their dependents, to obtain approval from the Department of State prior to acquiring luxury goods, as defined within the designation, through any means in the United States. Further, the Permanent Mission and its members must comply with any other requirements as may be established by the Director or Deputy Director of the Office of Foreign Missions with respect to the acquisition of such luxury goods.

Pursuant to section 211 of the Act (22 U.S.C. 4311), it shall be unlawful for any person to make available any benefits to a foreign mission contrary to the requirements set forth in this Determination.

Pursuant to section 208(b) of the Act (22 U.S.C. 4308), compliance with this Determination shall to the extent thereof be a full acquittance and discharge for all purposes of the obligation of the person making the same. No person shall be held liable in any court or administrative proceeding for or with respect to anything done or omitted in good faith in connection with the administration of, or pursuant to and in reliance on, the Act or this Determination.

Dated: September 18, 2025.
Clifton C. Seagroves,
Acting Director Office of Foreign Missions, U.S. Department of State.

[FR Doc. 2025-18388 Filed 9-22-25; 8:45 am]

BILLING CODE 4711-07-P